DEPARTMENT OF TRANSPORTATION

Office of the Secretary

Notice of Applications for Certificates of Public Convenience and Necessity and Foreign Air Carrier Permits Filed Under Subpart B (Formerly Subpart Q) During the Week Ending March 28, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0124.

Date Filed: March 28, 2008.

Due Date for Answers, Conforming Applications, or Motion to Modify Scope: April 18, 2008.

Description: Application of TUI Airlines Belgium N.V. d/b/a Jetairfly requesting an expedited exemption, and a foreign air carrier permit, authorizing foreign scheduled and charter air transportation of persons, property and mail to the full extent permitted under the United States-European Air Transport Agreement; and to engage in such other air transportation as the Department may authorize pursuant to the prior approval of Part 212.

[FR Doc. E8-13448 Filed 6-13-08; 8:45 am]

BILLING CODE 4910-9X-P